DEPARTMENT OF TRANSPORTATION

Surface Transportation Board

[STB Finance Docket No. 34298]

Chattahoochee & Gulf Railroad Co., Inc.—Acquisition and Operation Exemption—Line of Central of Georgia Railroad Company

Chattahoochee & Gulf Railroad Co., Inc. (CGR), a noncarrier, has filed a verified notice of exemption under 49 CFR 1150.31,¹ to acquire and operate an approximately 24.2-mile line of the Central of Georgia Railroad Company (CGA) extending from approximately milepost J357.8 at the Hilton, GA station to approximately milepost J382.0 at the Dothan, AL station in Early County, GA, and Houston and Henry Counties, AL. In addition, CGR will acquire approximately 2.8 miles of incidental overhead trackage rights over CGA extending from milepost J355.0 to milepost J357.8 at or near Hilton, for the purpose of interchange with the Chattahoochee Industrial Railroad.²

¹ CGR subsequently filed an “Errata Sheet,” amending the verified notice.

² This proceeding is related to Gulf & Ohio Railways Holding Co., Inc.; H. Peter Claussen and Linda C. Claussen—Continuance in Control Exemption—Chattahoochee & Gulf Railroad Co., Inc., STB Finance Docket No. 34299, wherein Gulf & Ohio Railways Holding Co., Inc., and H. Peter Claussen and Linda C. Claussen, all noncarriers, have concurrently filed a petition for exemption to continue in control of CGR upon CGR's becoming a carrier.

CGR certifies that its projected annual revenues will not exceed those that would qualify it as a Class III rail carrier and that its annual revenues are not projected to exceed $5 million.

CGR states that it is close to reaching an agreement with CGA, a subsidiary of Norfolk Southern Railway Company, concerning the involved transaction; the transaction was scheduled to be consummated on or after March 7, 2003 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34298, must be filed with the Surface Transportation Board, 1925 K Street N.W., Washington, DC 20423-0001. In addition, one copy of each pleading must be served on: Troy W. Garris, Weiner Brodsky Sidman Kider PC, 1300 19th Street, NW., Fifth Floor, Washington, DC 20036-1609.

Board decisions and notices are available on our Web site at http://www.stb.dot.gov.

Decided: March 19, 2003.
By the Board, David M. Konschnik, Director, Office of Proceedings.
Vernon A. Williams,
Secretary.

[FR Doc. 03-7235 Filed 3-25-03; 8:45 am]

BILLING CODE 4915-00-P